DEPARTMENT OF COMMERCE

Foreign-Trade Zones Board

(Docket T-1-2006)

Foreign-Trade Subzone 84C—La Porte, TX, Application for Export-Only Temporary/Interim Manufacturing Authority, E.I. du Pont de Nemours and Company, Inc., (Crop Protection Products)

An application has been submitted to the Executive Secretary of the Foreign-Trade Zones Board (the Board) by E.I. du Pont de Nemours and Company, Inc. (Du Pont), operator of FTZ Subzone 84C, on behalf of the Port of Houston Authority, grantee of FTZ 84, requesting export-only temporary/interim manufacturing (T/IM) authority within Subzone 84C, at Du Pont's facilities located in La Porte, Texas. The application was filed on March 24, 2006.

The Du Pont facility (675 full and part-time employees; annual production capacity of 3500 to 4400 metric tons of the products which are the subject of the application) is located at 12501 Strang Road, La Porte, Texas. Under T/IM procedures, the company has requested authority to manufacture two crop-protection related products (methomyl insectide technical and lannate; these products have U.S. duty rates of 6.5%). The company would source the following input item from abroad for manufacturing the finished products under T/IM authority, as delineated in Du Pont's application: acetalhydeoxide (AAO) U.S. duty rate is 6.5%. T/IM authority could be granted for a period of up to two years.

FTZ procedures would allow Du Pont to avoid payment of U.S. duties on the input listed above because all of the production for which FTZ T/IM authority is sought will be for re-export. Du Pont may also realize a small amount of logistical/paperwork savings under FTZ procedures.

Public comment is invited from interested parties. Submissions shall be addressed to the Board's Executive Secretary at one of the following addresses:

1. Submissions via Express/Package Delivery Services: Foreign-Trade Zones Board, U.S. Department of Commerce, Franklin Court Building - Suite 4100W, 1099 14th St. NW, Washington, D.C. 20005; or

2. Submissions via the U.S. Postal Service: Foreign-Trade Zones Board, U.S. Department of Commerce, FCB - Suite 4100W, 1401 Constitution Ave. NW, Washington, D.C. 20230.

The closing period for their receipt is May 4, 2006.

A copy of the application will be available for public inspection at the Office of the Foreign-Trade Zones Board's Executive Secretary at the first address listed above.

Dated: March 28, 2006.
Dennis Puccinelli,
Executive Secretary.

[FR Doc. E6-4865 Filed 4-3-06; 8:45 am]

Billing Code: 3510-DS-S